DEPARTMENT OF ENERGY

Environmental Management Advisory Board Meeting

AGENCY: Department of Energy.

ACTION: Notice of open meeting.

SUMMARY: This notice announces a meeting of the Environmental Management Advisory Board (EMAB). The Federal Advisory Committee Act (Pub. L. 92-463, 86 Stat. 770) requires that public notice of this meeting be announced in the Federal Register.

DATES: Monday, December 5, 2011, 9 a.m.-4:45 p.m.

ADDRESSES: U.S. Department of Energy, 1000 Independence Avenue SW., Washington, DC 20585.

FOR FURTHER INFORMATION CONTACT: Kristen G. Ellis, Designated Federal Officer, EMAB (EM-42), U.S. Department of Energy, 1000 Independence Avenue SW., Washington, DC 20585. Phone (202) 586-5810; fax (202) 586-0293 or email: kristen.ellis@em.doe.gov.

SUPPLEMENTARY INFORMATION: Purpose of the Board: The purpose of EMAB is to provide the Assistant Secretary for Environmental Management (EM) with advice and recommendations on corporate issues confronting the EM program. EMAB contributes to the effective operation of the program by providing individual citizens and representatives of interested groups an opportunity to present their views on issues facing EM and by helping to secure consensus recommendations on those issues.

Tentative Agenda Topics:

• EM Update

• EMAB Acquisition and Project Management Subcommittee Report

• Tank Waste Strategy Update

• Management Excellence

Public Participation: The meeting is open to the public. Individuals who would like to attend must RSVP to Kristen G. Ellis no later than 5 p.m. on Friday, November 25, 2011, at kristen.ellis@em.doe.gov. An early confirmation of attendance will help facilitate access to the building more quickly. Please provide your name, organization, citizenship and contact information. Space is limited. Entry to the DOE Forrestal building will be restricted to those who have confirmed their attendance in advance. Anyone attending the meeting will be required to present government issued photo identification, such as a passport, driver's license, or government identification. EMAB welcomes the attendance of the public at its advisory committee meetings and will make every effort to accommodate persons with physical disabilities or special needs. If you require special accommodations due to a disability, please contact Kristen G. Ellis at least seven days in advance of the meeting at the phone number or email address listed above. Written statements may be filed with the Board either before or after the meeting. Individuals who wish to make oral statements pertaining to the agenda should contact Kristen G. Ellis at the address or telephone number listed above. Requests must be received five days prior to the meeting and reasonable provision will be made to include the presentation in the agenda. The Designated Federal Officer is empowered to conduct the meeting in a fashion that will facilitate the orderly conduct of business. Time allotted for individuals wishing to make public comments will depend on the number of individuals who wish to speak, but will not exceed five minutes.

Minutes: Minutes will be available by writing or calling Kristen G. Ellis at the address or phone number listed above. Minutes will also be available at the following Web site http://www.em.doe.gov/stakepages/emabmeetings.aspx.

Issued at Washington, DC on November 14, 2011.
LaTanya R. Butler,
Acting Deputy Committee Management Officer.

[FR Doc. 2011-29716 Filed 11-18-11; 8:45 am]

BILLING CODE 6450-01-P